NATIONAL SCIENCE FOUNDATION

Sunshine Act Meetings

The National Science Board (NSB), the NSB Committee on Strategy (CS), and the Committee on Awards and Facilities (A&F) hereby give notice of the scheduling of meetings for the transaction of National Science Board business pursuant to the National Science Foundation Act and the Government in the Sunshine Act.

TIME AND DATE: Wednesday, February 21, 2024, from 10:00 a.m.-4:45 p.m. and Thursday, February 22, 2024, from 9:00 a.m.-1:35 p.m. Eastern.

PLACE: These meetings will be held at NSF headquarters, 2415 Eisenhower Avenue, Alexandria, VA 22314, and by videoconference. If the COVID status for Alexandria, Virginia goes to “high,” please fill out and bring OMB's certification of vaccination form with you. All open sessions of the meeting will be webcast live on the NSB YouTube channel.

February 21, 2024: https://www.youtube.com/watch?v=-xabZle0pBw

February 22, 2024: https://www.youtube.com/watch?v=g7129GfU61Y

STATUS: Parts of these meetings will be open to the public. The rest of the meetings will be closed to the public. See full description below.

MATTERS TO BE CONSIDERED:

Wednesday, February 21, 2024

Plenary Board Meeting

Open Session: 10:00 a.m.-3:30 p.m.

• NSB Chair's Opening Remarks

○ Report on Board members' visit to Antarctica

○ Recognition of Black History month

• NSF Director's Opening Remarks

○ Tribute to Dr. John Slaughter, Rep. Eddie Bernice Johnson, and recognition of Black History month

○ Highlights of NSF Thematic Priorities

○ Senior Staff introductions

• NSF's Role in the Future of Artificial Intelligence

○ Presentation and Discussion, Dr. Tess DeBlanc-Knowles and Dr. Michael Littman

• Approval of November 2023 Open Meeting Minutes

• NSB Committee Reports

○ Committee on External Engagement

○ Continued strategic engagement and planning

○ Committee on Science and Engineering Policy

○ Discussion of draft policy messages and Indicators 2024 rollout

Vote on “Talent is the Treasure” policy message

○ Overview of the future of Indicators

○ Working Group Reports: updates on efforts to explore, identify, and prioritize policy work

National Security Team

Talent Development Team

• NSF Diversity, Equity, Inclusion, and Accessibility

○ Presentation and Discussion, Dr. Charles Barber

• NSF Sexual Assault and Harassment Prevention Response Update

○ Presentation and Discussion, Dr. Renee Ferranti

Closed Session: 3:30-3:45 p.m.

• NSF Discussion, Sexual Assault and Harassment Prevention Response

Committee on Strategy

Closed Meeting: 3:45-4:45 p.m.

• Committee Chair's Opening Remarks on the Agenda

• Update on NSF's FY 2024 Budget

• Preview and Discussion of NSF's FY 2025 Budget Request

Thursday, February 22, 2024

Plenary Board meeting

Open Session: 9:00-9:20 a.m.

• NSB Chair's Opening Remarks

• Commission Report

○ NSB-NSF Commission on Merit Review

Committee on Awards and Facilities Meeting

Open Session: 9:20 a.m.-10:05 a.m.

• Antarctic Support Contract Presentation and Discussion, Patrick Breen

Plenary Board

Closed Session: 10:05 a.m.-12:15 p.m.

• Committee Reports

• Committee on Awards and Facilities

○ Discussion of ASTRO2020 Decadal Recommendations and vote on proposed resolution

○ Discussion of National Solar Observatory

○ Joint meeting with A&F, Research Infrastructure

• Committee on Strategy

○ NSF FY 2025 Annual Performance Plan and FY 2023 Annual Performance Report

• Committee on Oversight

○ NSF's Pilot programs to include Broader Impacts practitioners on Committees of Visitors and improve review training

• NSB-NSF Commission on Merit Review

• Vote to move into Executive Plenary Closed

Closed (Executive) Session: 12:45 p.m.-1:35 p.m.

• NSB Chair's Opening Remarks

• Approval of November 2023 Executive Plenary closed meeting minutes

• NSF Director's Remarks

○ Organizational Updates

• NSB Chair's Closing Remarks

Meeting Adjourns: 1:35 p.m.

Portions Open to the Public

Wednesday, February 21, 2024

10:00 a.m.-3:30 p.m. Plenary NSB

Thursday, February 22, 2024

9:00 a.m.-10:05 a.m. Plenary NSB

Portions Closed to the Public

Wednesday, February 21, 2024

3:30 p.m.-3:45 p.m. Plenary NSB

3:45 p.m.-4:45 p.m. Committee on Strategy

Thursday, February 22, 2024

10:05 a.m.-12:15 p.m. Plenary NSB

12:45 p.m.-1:35 p.m. Plenary NSB (executive session)

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Ann E. Bushmiller,
Senior Legal Counsel to the National Science Board.

[FR Doc. 2024-03560 Filed 2-16-24; 11:15 am]

BILLING CODE 7555-01-P